DEPARTMENT OF ENERGY

Federal Energy Regulatory Commission

[Docket No. RP97-255-046]

TransColorado Gas Transmission Company; Notice of Negotiated Rate

September 26, 2002.

Take notice that on May 15, 2002, TransColorado Gas Transmission Company (TransColorado) tendered for filing an amended negotiated-rate contract with Western Gas Resources, Inc. (WGR).

TransColorado states that the filing is being pursuant to the Commission's April 25, 2002, letter order issued in Docket No. RP97-255-043.

In Docket No. RP97-255-043, TransColorado filed a negotiated-rate tariff filing to revise it Statement of Negotiated Rates to reflect the negotiated-rate contract with WGR. The Commission's April 25th order stated that the Commission found WGR's contact to contain a provision that constitutes a negotiated term and condition of service that may result in WGR receiving a different quality of service than other customers. TransColorado renegotiated the contract with WRG and removed the objectiable language. The renegotiated contract is included with this filing and has an effective date of April 1, 2002.

Any person desiring to be heard or to protest said filing should file a motion to intervene or a protest with the Federal Energy Regulatory Commission, 888 First Street, NE., Washington, DC 20426, in accordance with sections 385.214 or 385.211 of the Commission's rules and regulations. All such motions or protests must be filed on or before October 3, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, call (202)502-8222 or for TTY, (202) 502-8659. Comments, protests and interventions may be filed electronically via the Internet in lieu of paper. The Commission strongly encourages electronic filings. See, 18 CFR 385.2001(a)(1)(iii) and the instructions on the Commission's Web site under the “e-Filing” link.

Linwood A. Watson, Jr.,
Deputy Secretary.

[FR Doc. 02-25028 Filed 10-1-02; 8:45 am]

BILLING CODE 6717-01-P